DEPARTMENT OF JUSTICE

[Docket No. ODAG 166]

Notice of Federal Advisory Committee Meeting

AGENCY: Department of Justice.

ACTION: Notice of Federal Advisory Committee Meeting. Request for Public Comment.

SUMMARY: The National Commission on Forensic Science will hold meeting twelve at the time and location listed below.

DATES: (1) Public Hearing. The meeting will be held on January 9, 2017 from 9:00 a.m. to 5:15 p.m. and January 10, 2017 from 8:30 a.m. to 4:30 p.m.

(2) Written Public Comment. Written public comment regarding National Commission on Forensic Science meeting materials can be submitted through www.regulations.gov starting on December 23, 2016. Any comments should be posted to www.regulations.gov no later than January 25, 2017.

Location: Office of Justice Programs, 3rd Floor Main Conference Room, 810 7th Street NW., Washington, DC 20531.

FOR FURTHER INFORMATION CONTACT: Jonathan McGrath, Ph.D., Senior Policy Analyst at the National Institute of Justice and NCFS Designated Federal Officer, 810 7th Street NW., Washington, DC 20531, by email at Jonathan.McGrath@usdoj.gov or by phone at (202) 514-6277.

SUPPLEMENTARY INFORMATION: Agenda: Open Meeting: The Commission will meet on January 9, 2017, 9:00 a.m. to 5:15 p.m. and January 10, 2017, 8:30 a.m. to 4:30 p.m. On January 9, 2017, the Commission will receive Subcommittee status reports, an update on DOJ forensic science initiatives from the DOJ Office of Legal Policy, and briefings on Scientific Foundations. On January 10, 2017 the Commission will receive Subcommittee status reports, an update regarding forensic science surveys from the DOJ Bureau of Justice Statistics, a briefing on Jury Understanding of Statistics, and briefings on extramural and Federal agency forensic science research initiatives. Note: Agenda items, including designation of presentation dates are subject to change. A final agenda will be posted to the Commission's Web site in advance of the meeting.

Meeting Accessibility: Pursuant to 41 CFR 102-3.140 through 102-3.165 and the availability of space, the meeting scheduled for January 9, 2017, 9:00 a.m. to 5:15 p.m. and January 10, 2017, 8:30 a.m. to 4:30 p.m. at the Office of Justice Programs is open to the public and webcast. Seating is limited and pre-registration is strongly encouraged. Media representatives are also encouraged to register in advance.

Written Comments: Pursuant to section 10(a)(3) of the FACA and 41 CFR 102-3.105(j) and 102-3.140, the public or interested organizations may submit written comments to the Commission in response to the stated agenda and meeting material. Meeting material, including work products, will be made available on the Commission's Web site: http://www.justice.gov/ncfs.

Oral Comments: In addition to written statements, members of the public may present oral comments at 5:00 p.m. on January 9, 2017 and at 4:15 p.m. on January 10, 2017. Those individuals interested in making oral comments should indicate their intent through the on-line registration form and time will be allocated on a first-come, first-served basis. Time allotted for an individual's comment period will be limited to no more than 3 minutes. If the number of registrants requesting to speak is greater than can be reasonably accommodated during the scheduled public comment periods, written comments can be submitted through www.regulations.gov in lieu of oral comments.

Registration: Individuals and entities who wish to attend the public meeting are strongly encouraged to pre-register for the meeting on-line by clicking the registration link found at: https://www.justice.gov/ncfs/term-2-meetings-8-15#s12. Online registration for the meeting must be completed on or before 5:00 p.m. (EST), Friday, December 30, 2016.

Additional Information: The Department of Justice welcomes the attendance of the public at its advisory committee meetings and will make every effort to accommodate persons with physical disabilities or special needs. If you require special accommodations, please indicate your requirements on the online registration form.

Dated: December 1, 2016.
Victor W. Weedn,
Senior Forensic Advisor to the Deputy Attorney General, National Commission on Forensic Science.

[FR Doc. 2016-29725 Filed 12-9-16; 8:45 am]

BILLING CODE 4410-18-P